OFFICE OF PERSONNEL MANAGEMENT

Privacy Act of 1974: System of Records

AGENCY: U.S. Office of Personnel Management (OPM).

ACTION: Notice of amendment to system of records.

SUMMARY: OPM has amended an existing system of records subject to the Privacy Act of 1974. This action is necessary to meet the requirements of the Privacy Act to publish in the Federal Register notice of the existence and character of systems of records maintained by the agency.

DATES: The changes will be effective 30 days after the publication of this notice. Comments will be accepted until October 31, 2013.

ADDRESSES: Written comments must be sent to the U.S. Office of Personnel Management, Merit System Accountability and Compliance, ATTN: Robert D. Hendler (OPM\Govt-9), 1900 E Street NW., Room 6484, Washington, DC 20415.

FOR FURTHER INFORMATION CONTACT: Robert D. Hendler, (215) 861-3102, fax (215) 861-3100, or email to robert.hendler@opm.gov. Please include your complete mailing address with your request.

SUPPLEMENTARY INFORMATION: This notice serves to update and amend collection, analysis, and maintenance of OPM\Govt-9 (File on Position Classification Appeals, Job Grading Appeals, Retained Grade or Pay Appeals, Fair Labor Standard Act Claims and Complaints, Federal civilian employee Compensation and Leave claims, and Settlement of Accounts for Deceased Civilian Officers and Employees) to clarify that the system includes Federal civilian employee compensation and leave claims and the settlement of accounts for deceased Federal employees and to add a category of routine uses. Revisions include the following: (1) The system includes Federal civilian employee compensation and leave claims and the settlement of accounts for deceased Federal employees; (2) copies of decisions will be provided to the employing and/or former employing agency and other interested Federal agencies to the extent that information is relevant to the agency's administration of these programs; (3) the system manager contact has been updated to reflect the current organizational name; (4) as a result of a re-organization in May 2013, the system location has been updated to reflect current name; (5) the notification and access procedures have been updated to reflect standard OPM practice; and (6) the record source categories have been updated by removing transcript of hearings since hearings are not conducted as part of the adjudication/settlement process.

U.S. Office of Personnel Management.
Elaine Kaplan,
Acting Director.

OPM/GOVT-9

SYSTEM NAME:

File on Position Classification Appeals, Job Grading Appeals, Retained Grade or Pay Appeals, Fair Labor Standard Act (FLSA) Claims and Complaints, Federal Civilian Employee Compensation and Leave Claims, and Settlement of Accounts for Deceased Civilian Officers and Employees.

System location:

These records are located at the Office of Personnel Management, 1900 E Street NW., Washington, DC 20415, Merit System Accountability and Compliance, agency personnel offices (or other designated offices), and Federal records centers.

Categories of individuals covered by the system:

a. A current or former Federal employee who has filed a position classification appeal or a job grading appeal with the U.S. Office of Personnel Management, Merit System Accountability and Compliance, or with his or her agency.

b. A current or former Federal employee who has filed a retained grade or pay appeal with the U.S. Office of Personnel Management, Merit System Accountability and Compliance.

c. A current or former Federal employee who has filed a claim or complaint under the Fair Labor Standards Act (FLSA) with the U.S. Office of Personnel Management, Merit System Accountability and Compliance.

d. A current or former Federal employees, or a beneficiary of such current or former employee, who has filed a compensation or leave claim with the U.S. Office of Personnel Management, Merit System Accountability and Compliance, or whose compensation or leave claim has been forwarded to that office by the employee's current or former employing agency.

e. A claimed beneficiary whose dispute concerning the settlement of the account for a deceased Federal civilian officer or employee has been forwarded by the officer or employee's current or former employing agency to the U.S. Office of Personnel Management for settlement.

Categories of records in the system:

This system of records contains information or documents relating to the processing and adjudication of a position classification appeal, job grading appeal, retained grade or pay appeal, FLSA claim or complaint, or compensation or leave claim or dispute concerning the settlement of the account for a deceased Federal civilian officer or employee. The records may include information and documents regarding a personnel action of the agency involved and the decision or determination rendered by an agency regarding the classifying or grading of a position, whether an employee is to remain in a retained grade or pay category, the FLSA exemption status of an employee, or other FLSA claims or complaints, a decision or determination by an agency on the compensation or leave claim of an employee or former employee, or the agency position on the settlement of the account for a deceased Federal civilian officer or employee. This system may also include transcripts of agency hearings and statements from agency employees.

Note 1: This system notice also covers agency files created when: (a) An employee appeals a position classification or job grading decision to OPM or within the agency regardless of whether that agency appeal decision is further appealed to OPM, (b) an employee files a retained grade or pay appeal with OPM, (c) a claimant files an FLSA claim or complaint with OPM or to the agency regardless of whether the agency decision is the subject of an FLSA claim or complaint submitted to OPM, (d) a current or former Federal employee or their beneficiary(s) have filed a compensation or leave claim with OPM or with the agency regardless of whether the agency decision is the subject of a claim submitted to OPM, or (e) or a dispute concerning the settlement of the account for a deceased Federal civilian officer or employees has been forwarded to OPM by the deceased employee's former employing agency for resolution.

Authority for maintenance of the system:

5 U.S.C. 5103, 5112, and 5115 for classification appeals, 5346 for job grading appeals, and 5366 for retained grade or pay appeals; 29 U.S.C. 204(f) for FLSA claims and complaints; 31 U.S.C. 3702 for compensation and leave claims; and U.S.C. 5581, 5582, and 5583 and 38 U.S.C. 5122 for disputes concerning the settlement of the account for a deceased Federal civilian officer or employee.

Purpose(s):

These records are primarily used to document the processing and adjudication of a position classification appeal, a job grading appeal, a retained grade or pay appeal, an FLSA claim or complaint, compensation and leave claims, or disputes concerning the settlement of the account for a deceased Federal civilian officer or employees. Internally, OPM may use these records to locate individuals for personnel research.

Routine uses of records maintained in the system, including categories of users and the purpose of such uses:

These records and information in these records may be used:

a. To disclose pertinent information to the appropriate Federal, State, or local government agency responsible for investigating, prosecuting, enforcing, or implementing a statute, rule, regulation, or order, when the disclosing agency becomes aware of an indication of a violation or potential violation of civil or criminal law or regulation.

b. To disclose information to the Office of Management and Budget at any stage in the legislative coordination and clearance process in connection with private relief legislation as set forth in OMB Circular No. A-19.

c. To provide information to a congressional office from the record of an individual in response to an inquiry from that congressional office made at the request of that individual.

d. To disclose information to any source from which additional information is requested in the course of adjudicating a position classification appeal, job grading appeal, retained grade or pay appeal, FLSA claim or complaint, compensation and leave claims, or disputes concerning the settlement of the account for a deceased Federal civilian officer or employees to the extent necessary to identify the individual, inform the source of the purpose(s) of the request, and identify the type of information requested.

e. To disclose information to a Federal agency, in response to its request, in connection with the hiring, retaining or assigning of an employee; issuing a security clearance; conducting a security or suitability investigation of an individual; classifying positions; grading jobs; making FLSA exemption status determinations; adjudicating FLSA claims and complaints; adjudicating compensation and leave claims; or resolving disputes concerning the settlement of the account for a deceased Federal civilian officer or employees, to the extent that the information is relevant and necessary to the requesting agency's decision on the matter.

f. To disclose information to another Federal agency, to a court, or a party in litigation before a court or in an administrative proceeding being conducted by a Federal agency, when the Government is a party to the judicial or administrative proceeding.

g. To disclose information to the Department of Justice, or in a proceeding before a court, adjudicative body, or other administrative body before which the agency is authorized to appear, when:

1. The agency, or any component thereof; or

2. Any employee of the agency in his or her official capacity; or

3. Any employee of the agency in his or her individual capacity where the Department of Justice or the agency has agreed to represent the employee; or

4. The United States, where the agency determines that litigation is likely to affect the agency or any of its components, is a party to litigation, or has an interest in such litigation, and the use of such records by the Department of Justice or the agency is deemed by the agency to be relevant and necessary to the litigation, provided, however, that in each case it has been determined that the disclosure is compatible with the purpose for which the records were collected.

h. By OPM or an agency in the production of summary descriptive statistics and analytical studies in support of the function for which the records are collected and maintained, or for related workforce studies. While published statistics and studies do not contain individual identifiers, in some instances the selection of elements of data included in the study may be structured in such a way as to make the data individually identifiable by inference.

i. By the National Archives and Records Administration in records management inspections and its role as Archivist.

j. To disclose, in response to a request for discovery or for appearance of a witness, information that is relevant to the subject matter involved in a pending judicial or administrative proceeding.

k. To disclose information to the Merit Systems Protection Board or the Office of the Special Counsel in connection with appeals, special studies of the civil service and other merit systems, review of Office rules and regulations, investigations of alleged or possible prohibited personnel practices, and such other functions; e.g., as promulgated in 5 U.S.C. 1205 and 1206, or as may be authorized by law.

l. To disclose information to the Equal Employment Opportunity Commission when requested in connection with investigations into alleged or possible discrimination practices in the Federal sector, examinations of Federal affirmative employment programs, determinations of compliance by Federal agencies with the Uniform Guidelines on Employee Selection Procedures, or other functions vested in the Commission, and to otherwise ensure compliance with the provisions of 5 U.S.C. 7201.

m. To disclose information to the Federal Labor Relations Authority or its General Counsel when requested in connection with investigations of allegations of unfair labor practices or matters before the Federal Service Impasses Panel.

n. To disclose information to contractors, grantees, or volunteers performing or working on a contract, service, grant, cooperative agreement, or job for the Federal Government.

o. To provide a copy of a decision issued in response to classification, job grading, and retained grade and pay appeals; FLSA claims and complaints, compensation and leave claims, or disputes concerning the settlement of the account for a deceased Federal civilian officer or employees to the employing and/or former employing agency and/or other Federal agencies to the extent that information from a decision is relevant and necessary to the agency's administration of these programs.

Policies and practices for storage, retrieval, safeguards, retaining and disposal of records in the system:

Storage:

These records are maintained in file folders and binders and on index cards, magnetic tape, disks, and microfiche.

Retrievability:

These records are retrieved by the subject's name, and the name of the employing agency of the individual on whom the record is maintained.

Safeguards:

These records are located in lockable metal filing cabinets or automated media in a secured room, with access limited to those persons whose official duties require and such access.

Retention and disposal:

Records related to position classification appeal, job grading appeal, retained grade or pay appeal files, FLSA claims or complaints, compensation and leave claims, or disputes concerning the settlement of the account for a deceased Federal civilian officer or employees are maintained for 7 years after closing action on the case. Records are destroyed by shredding, burning, or erasing as appropriate.

System manager(s) and address:

Deputy Associate Director, Merit System Accountability and Compliance, U.S. Office of Personnel Management, 1900 E Street NW., Room 6484, Washington, DC 20415.

Notification and Record Access Procedure:

Individuals wishing to determine whether this system of records contains information about them may do so by writing to the U.S. Office of Personnel Management, FOIA/PA Requester Service Center, 1900 E Street NW., Room 5415, Washington, DC 20415-7900 or by emailing foia@opm.gov.

Individuals must furnish the following information for their records to be located:

1. Full name.

2. Date and place of birth.

3. Social Security Number.

4. Signature.

5. Available information regarding the type of information requested.

6. The reason why the individual believes this system contains information about him/her.

7. Agency in which employed when the appeal, FLSA claim or complaint, compensation and leave claim, or dispute concerning the settlement of the account for a deceased Federal civilian officer or employee was filed and the approximate date of the closing of the case.

8. Kind of action (e.g., position classification appeal, job grading appeal, retained grade or pay appeal, FLSA claim, complaint, compensation and leave claim, or dispute concerning the settlement of the account for a deceased Federal civilian officer or employee).

9. The address to which the information should be sent.

Individuals requesting access must also comply with OPM's Privacy Act regulations regarding verification of identity and access to records (5 CFR 297).

Contesting record procedure:

Individuals wishing to request amendment of records about them should write to the Office of Personnel Management, FOIA/PA Requester Service Center, 1900 E Street NW., Room 5415, Washington, DC 20415-7900. ATTN: Merit System Accountability and Compliance.

Individuals must furnish the following information in writing for their records to be located:

1. Full name.

2. Date and place of birth.

3. Social Security Number.

4. City, state, and zip code of their Federal Agency.

5. Signature.

6. Precise identification of the information to be amended.

7. Agency in which employed when the appeal or FLSA claim or complaint was filed and the approximate date of the closing of the case.

8. Kind of action (e.g., position classification appeal, job grading appeal, retained grade or pay appeal, FLSA claim or complaint, compensation and leave claim and/or dispute concerning the settlement of the account for a deceased Federal civilian officer or employee).

Individuals requesting amendment must also follow OPM's Privacy Act regulations regarding verification of identity and amendment to records (5 CFR 297).

Record source categories:

a. Individual to whom the record pertains.

b. Agency and/or OPM records relating to the action.

c. Statements from employees or testimony of witnesses.

[FR Doc. 2013-23839 Filed 9-30-13; 8:45 am]

BILLING CODE 6325-58-P